FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
018231N | All American Cargo-Servicios Nicaraguenses, Corp., 1925 NW. 21 Terrace, Miami, FL 33142 | August 12, 2005.
003170F | GAP Forwarding, Inc., 2790 NW 104th Court, Suite 101, Miami, FL 33172 | May 11, 2005.
000225F | H.W. Robinson & Co., Inc., One Cross Plaza Island, Suite #119, Rosedale, NY 11422 | August 6, 2004.

Sandra L. Kusumoto,
Director, Bureau of Consumer Complaints and Licensing.

[FR Doc. 05-19366 Filed 9-27-05; 8:45 am]

BILLING CODE 6730-01-P